DEPARTMENT OF TRANSPORTATION

Federal Aviation Administration

14 CFR Part 39

[Docket No. FAA-2007-27208; Directorate Identifier 2007-CE-010-AD]

RIN 2120-AA64

Airworthiness Directives; Vulcanair S.p.A. P68 Series Airplanes

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

The backrest recline of pilot and copilot seats requires the removal of a “quick release pin” not correctly indicated in the AFM and not ready detectable by the passengers. Moreover the operation of removal the device is difficult. This cause difficulty or disables the access to the escapes of the cabin in case of emergency evacuation.

The proposed AD would require actions that are intended to address the unsafe condition described in the MCAI.

DATES: We must receive comments on this proposed AD by April 9, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5227) is in the ADDRESSES section. Comments will be available in the AD docket shortly after receipt.

FOR FURTHER INFORMATION CONTACT: Sarjapur Nagarajan, Aerospace Engineer, FAA, Small Airplane Directorate, 901 Locust, Room 301, Kansas City, Missouri 64106; telephone: (816) 329-4145; fax: (816) 329-4090.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2007-27208; Directorate Identifier 2007-CE-010-AD” at the beginning of your comments. We specifically invite comments on the overall regulatory, economic, environmental, and energy aspects of this proposed AD. We will consider all comments received by the closing date and may amend this proposed AD because of those comments.

We will post all comments we receive, without change, to http://dms.dot.gov, including any personal information you provide. We will also post a report summarizing each substantive verbal contact we receive about this proposed AD.

Discussion

The Ente Nazionale per l'Aviazione Civile (ENAC), which is the aviation authority for Italy, has issued AD N. 2004-522, Rev. 0, dated December 20, 2004 (referred to after this as “the MCAI”), to correct an unsafe condition for the specified products. The MCAI states:

The backrest recline of pilot and copilot seats requires the removal of a “quick release pin” not correctly indicated in the AFM and not ready detectable by the passengers. Moreover the operation of removal the device is difficult. This cause difficulty or disables the access to the escapes of the cabin in case of emergency evacuation.

The MCAI requires:

Carry out the operational checks/inspection/modification:

—Kit SB 128/A-1 applicable to aircraft model P68C. Serial numbers (S/N) 429, 434 and 435 are excluded;

—Kit SB 128/A-2 applicable only to P68C aircraft with S/N 429, 434 and 435;

—Kit SB 128/B applicable to aircraft model P68 Observer 2;

—Kit SB 128/C applicable to aircraft model P68TC Observer; called for by the referenced Service Bulletin, in accordance with the procedures in there specified, within the terms set forth under “COMPLIANCE” of this AD.

You may obtain further information by examining the MCAI in the AD docket.

Relevant Service Information

Vulcanair S.p.A. has issued P68 Variants Mandatory Service Bulletin No. 128, dated October 12, 2004. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 15 products of U.S. registry. We also estimate that it would take about 2 work-hours per product to comply with the basic requirements of this proposed AD. The average labor rate is $80 per work-hour. Where the service information lists required parts costs that are covered under warranty, we have assumed that there will be no charge for these costs. As we do not control warranty coverage for affected parties, some parties may incur costs higher than estimated here.

Based on these figures, we estimate the cost of the proposed AD on U.S. operators to be $2,400, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Vulcanair S.p.A. (Type certificate No. A31EU formally held by Partenavia Costruzioni Aeronautiche S.p.A.): Docket No. FAA-2007-27208; Directorate Identifier 2007-CE-010-AD

Comments Due Date

(a) We must receive comments by April 9, 2007.

Affected ADs

(b) None.

Applicability

(c) This AD applies to all Models P68C, P68 Observer 2, and P68TC Observer airplanes, serial numbers 412 through 424 (except 418), 429, 434, and 435, certificated in any category.

Subject

(d) Air Transport Association of America (ATA) Code 51: Structures.

Reason

(e) The mandatory continuing airworthiness information (MCAI) states:

The backrest recline of pilot and copilot seats requires the removal of a “quick release pin” not correctly indicated in the AFM and not ready detectable by the passengers. Moreover the operation of removal the device is difficult. This cause difficulty or disables the access to the escapes of the cabin in case of emergency evacuation.

Actions and Compliance

(f) Unless already done, do the following actions within 30 days after the effective date of this AD:

(1) For Model P68C airplanes, serial numbers 412 through 424 (except 418): Install Kit SB 128/A-1, following Vulcanair S.p.A. P68 Variants Mandatory Service Bulletin No. 128, dated October 12, 2004;

(2) For Model P68C airplanes, serial numbers 429, 434, and 435: Install Kit SB 128/A-2 following Vulcanair S.p.A. P68 Variants Mandatory Service Bulletin No. 128, dated October 12, 2004;

(3) For Model P68 Observer 2 airplanes: Install Kit SB 128/B, following Vulcanair S.p.A. P68 Variants Mandatory Service Bulletin No. 128, dated October 12, 2004; or

(4) For Model P68TC Observer airplanes: Install Kit SB 128/C, following Vulcanair S.p.A. P68 Variants Mandatory Service Bulletin No. 128, dated October 12, 2004.

FAA AD Differences

Note: This AD differs from the MCAI and/or service information as follows: No differences.

Other FAA AD Provisions

(g) The following provisions also apply to this AD:

(1) Alternative Methods of Compliance (AMOCs): The Manager, Standards Staff, FAA, ATTN: Sarjapur Nagarajan, Aerospace Engineer, FAA, Small Airplane Directorate, 901 Locust, Room 301, Kansas City, Missouri 64106; telephone: (816) 329-4145; fax: (816) 329-4090, has the authority to approve AMOCs for this AD, if requested using the procedures found in 14 CFR 39.19.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et.seq.), the Office of Management and Budget (OMB) has approved the information collection requirements and has assigned OMB Control Number 2120-0056.

Related Information

(h) Refer to MCAI Ente Nazionale per l'Aviazione Civile (ENAC), AD N. 2004-522, Rev. 0, dated December 20, 2004; and Vulcanair S.p.A. P68 Variants Mandatory Service Bulletin No. 128, dated October 12, 2004, for related information.

Issued in Kansas City, Missouri, on March 2, 2007.
Kim Smith,
Manager, Small Airplane Directorate, Aircraft Certification Service.

[FR Doc. E7-4242 Filed 3-8-07; 8:45 am]

BILLING CODE 4910-13-P